DEPARTMENT OF COMMERCE

Census Bureau

Agency Information Collection Activities; Submission to the Office of Management and Budget (OMB) for Review and Approval; Comment Request; Redistricting Data Program

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Redistricting Data Program (RDP), prior to the submission of the information collection request (ICR) to OMB for approval.

DATES: To ensure consideration, comments regarding this proposed information collection must be received on or before July 5, 2024.

ADDRESSES: Interested persons are invited to submit written comments by email to dcmd.pra@census.gov. Please reference “Redistricting Data Program” in the subject line of your comments. You may also submit comments, identified by Docket Number USBC-2024-0011, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael S. Snow, Program Manager, Decennial Census Management Division, by phone at 301-763-9912 or by email to dcmd.pra@census.gov.

SUPPLEMENTARY INFORMATION:

I. Abstract

The Redistricting Data Program (RDP) is one of many voluntary geographic partnership programs that collects boundaries and attributes to update the U.S. Census Bureau's geographic database of addresses, streets, and boundaries. The Census Bureau uses its geographic database, i.e., the Master Address File/Topologically Integrated Geographic and Encoding and Referencing (MAF/TIGER) System, to link demographic data from surveys and the decennial census to locations and areas, such as cities, congressional and legislative districts, and counties. To tabulate statistics by localities, the Census Bureau must have accurate addresses, streets, boundaries, and attributes.

The RDP is executed under the provisions of title 13, section 141(c) of the United States Code (U.S.C.). Under the provisions of Public Law 94-171, as amended (title 13, United States Code (U.S.C.), section 141(c)), “[t]he officers or public bodies having initial responsibility for the legislative apportionment or districting of each State may, not later than 3 years before the decennial census date, submit to the Secretary a plan identifying the geographic areas for which specific tabulations of population are desired.”

The Census Bureau is requesting a clearance to continue activities included in the RDP. As the current OMB Control Number 0607-0988 clearance will expire in November 2024, the new clearance will allow the Census Bureau to provide RDP-specific materials and procedures to participants during the fiscal years (FY) 2025, 2026, and 2027. These activities include:

• Solicitation of Non-Partisan Liaisons (2025)

• Collection of Post-2020 Census Congressional and State Legislative District Plans (2025-2026)

• Block Boundary Suggestion Project (2026-2027)

II. Method of Collection

Solicitation of Non-Partisan Liaisons (2025)

Legislative leadership of all fifty states, the District of Columbia, and the Commonwealth of Puerto Rico will be asked to provide a non-partisan liaison who will serve for the entirety of the 2030 Census RDP and who will create and submit geographic updates and perform verification as a part of the RDP.

Solicitation of Non-Partisan Liaisons Schedule

Legislative leadership will be contacted by mail beginning in January 2025 asking for a non-partisan liaison from each state to be designated to work on the RDP. Contacts will continue through mail, email, and phone until at least one liaison has been assigned from every state, the District of Columbia, and the Commonwealth of Puerto Rico.

Collection of Post-2020 Census Congressional and State Legislative District Plans (2025-2026)

The Census Bureau collaborates with the designated non-partisan liaisons to collect any newly enacted congressional or state legislative districts plans since the collection of the 119th Congressional and 2024 State Legislative Districts plans in 2024. The Census Bureau provides guidelines for submitting their plans. Those that have changes provide a block equivalency file, split block shapefiles (if any), district population, and legislation to the Census Bureau. The Census Bureau processes the new plans into the MAF/TIGER System and provides a new block equivalency file and split block shapefiles (if any) to verify that the districts were inserted correctly.

Collection of Post-2020 Census Congressional and State Legislative District Plans Schedule

• The Census Bureau collects plans from November 2025 through April 2026.

• The verification phase occurs from February 2026 through April 2026.

Block Boundary Suggestion Project (2026-2027)

The Census Bureau collaborates with the designated non-partisan liaisons to collect and verify suggestions for the 2030 Census tabulation blocks as part of the Block Boundary Suggestion Project (BBSP). Liaisons are also able to submit suggested legal boundary updates as well as updates to other geographic areas and features. These actions allow for the construction of the small area geography needed for legislative redistricting. Digital copies of the features and boundaries the Census Bureau has in the MAF/TIGER System are provided to the liaisons. The liaisons can choose to use a free customized geographic information system (GIS) application provided by the Census Bureau, i.e., the Geographic Update Partnership Software (GUPS), or their own GIS mapping software to submit updates and block boundary suggestions.

The BBSP is conducted in two parts, an initial delineation of updates, i.e., delineation phase, and a verification phase to ensure the suggested updates are accurately applied. The verification phase also has the option for liaisons to make additional block suggestions. Those that choose to participate in BBSP receive guidelines and training for providing their suggestions.

BBSP Schedule

• The delineation phase begins in January 2026 and ends in May 2026.

• The verification phase begins in January 2027 and ends in May 2027.

Feedback

The Census Bureau is adding a feedback component to its geographic partnership programs to allow for the solicitation of feedback to improve the administration of the respective program and potentially reduce the future burden. Liaisons may be asked to provide their feedback on materials, method(s) of data collection, manner of communications, and the usability of the program applications and tools.

III. Data

OMB Control Number: 0607-0988.

Form Number(s): Certification Forms (4) and Verification Forms (2).

• 2026 State Legislative Boundary Certification Form for states with a Single Congressional District (Alaska, Delaware, North Dakota, South Dakota, Vermont, and Wyoming).

• District of Columbia 2026 Wards Certification Form.

• 120th Congressional District Boundary and 2026 State Legislative District Boundary Certification Form.

• Commonwealth of Puerto Rico 2026 Legislative District Boundaries Certification Form.

• 2026 State Legislative District Boundaries Verification Form.

• 120th Congressional District Boundaries Verification Form.

Type of Review: Regular submission, request for a revision of a currently approved collection.

Affected Public: All fifty states, the District of Columbia, and the Commonwealth of Puerto Rico.

Estimated Number of Respondents:

• Solicitation of Non-Partisan Liaisons: 52.

• Collection of Post-2020 Census Congressional and State Legislative District Plans: 52.

• BBSP Delineation Phase: 52.

• BBSP Verification Phase: 52.

• Feedback: 52.

Estimated Time per Response:

• Solicitation of Non-Partisan Liaisons: 6 hours.

• Collection of Post-2020 Census Congressional and State Legislative District Plans: 8 hours.

• BBSP Delineation Phase: 124 hours.

• BBSP Verification Phase: 62 hours.

• Feedback: 1 hour.

Estimated Total Annual Burden Hours: 10,452.

• Solicitation of Non-Partisan Liaisons: 312 hours.

• Collection of Post-2020 Census Congressional and State Legislative District Plans: 416 hours.

• BBSP Delineation Phase: 6,448 hours.

• BBSP Verification Phase: 3,224 hours.

• Feedback: 52 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Public Law 94-171, as amended (title 13, United States Code (U.S.C.), section 141(c)).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09794 Filed 5-3-24; 8:45 am]

BILLING CODE 3510-07-P